DEPARTMENT OF JUSTICE

Antitrust Division

Notice Pursuant to the National Cooperative Research and Production Act of 1993—Laser Forming of Sheet Metal

Notice is hereby given that, on July 12, 2000, pursuant to section 6(a) of the National Cooperative Research and Production Act of 1993, 15 U.S.C. 4301 et seq. (“the Act”), The Boeing Company has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are A Zahner Company Inc., Kansas City, MO; The Trustees of Columbia University in the City of New York, New York, NY; Concurrent Technologies Corporation, Johnstown, PA; GE Corporate Research and Development, Niskayuna, NY; Native American Technologies, Golden, CO; Wilson Greatbatch, Ltd., Clarence, NY and The Boeing Company, Seattle, WA. The nature and objectives of the venture are to conduct research on laser forming of sheet metal.

Constance K. Robinson,
Director of Operations, Antitrust Division.

[FR Doc. 00-20299 Filed 8-10-00; 8:45 am]

BILLING CODE 4410-11-M